FEDERAL COMMUNICATIONS COMMISSION

Notice of Public Information Collection(s) Being Reviewed by the Federal Communications Commission, Comments Requested

January 28, 2008.

SUMMARY: The Federal Communications Commission, as part of its continuing effort to reduce paperwork burdens, invites the general public and other Federal agencies to take this opportunity to comment on this proposed collection of information, in accordance with the Paperwork Reduction Act of 1995 (PRA), Public Law 104-13. An agency may not conduct or sponsor a collection of information unless it displays a currently valid control number. Subject to the PRA, no person shall be subject to any penalty for failing to comply with a collection of information that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before April 4, 2008. If you anticipate that you will be submitting comments, but find it difficult to do so within the period of time allowed by this notice, you should advise the contact listed below as soon as possible.

ADDRESSES: You may submit all PRA comments by e-mail or U.S. post mail. To submit your comments by e-mail, send them to PRA@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov.

SUPPLEMENTARY INFORMATION: OMB Control Number: 3060-0027.

Type of Review: Extension of a currently approved collection.

Title: Application for Construction Permit for Commercial Broadcast Station.

Form Number: FCC Form 301.

Respondents: Business or other for-profit entities; not-for-profit institutions.

Number of Respondents: 4,278.

Estimated Time per Response: 2 to 4 hours.

Frequency of Response: On occasion reporting requirement; one time reporting requirement; third party disclosure requirement.

Total Annual Burden: 10,513 hours.

Total Annual Cost: $51,350,347.

Needs and Uses: Congress has mandated that after February 17, 2009, full-power television broadcast stations must transmit only in digital signals, and may no longer transmit analog signals. On December 22, 2007, the Commission adopted a Report and Order in the matter of the Third Periodic Review of the Commission's Rules and Policies Affecting the Conversion to Digital Television, MB Docket No. 07-91, FCC 07-228, to establish the rules, policies and procedures necessary to complete the nation's transition to DTV. With the DTV transition deadline less than 14 months away, the Commission must ensure that broadcasters meet their statutory responsibilities and complete construction of, and begin operations on, the facility on their final, post-transition (digital) channel that will reach viewers in their authorized service areas by the statutory transition deadline, when they must cease broadcasting in analog. The Commission wants to ensure that no consumers are left behind in the DTV transition.

Specifically, the Report and Order requires full-power commercial television stations to use revised FCC Form 301 to obtain the necessary Commission approvals (i.e., construction permits and licenses) in time to build their post-transition facility.

• Applications for post-transition facilities. Full-power commercial television stations without a construction permit for their final, post-transition (DTV) facility must file an application to construct or modify that facility using FCC Forms 301.

• Requests to transition early to post-transition channel. Full-power commercial television stations may request authority to transition early to their post-transition channel using FCC Form 301.

• Revisions to FCC Form 301. FCC Form 301 was revised to accommodate the filing of post-transition applications.

The FCC received approval under the “emergency processing provisions” of the PRA on January 7, 2008. The requirements for this collection have not changed since we received approval.

OMB Control Number: 3060-0029.

Title: Application for TV Broadcast Station License, FCC Form 302 TV; Application for DTV Broadcast Station License, FCC Form 302-DTV; Application for Construction Permit for Reserved Channel Noncommercial Educational Broadcast Station, FCC Form 340; Application for Authority to Construct or Make Changes in an FM Translator or FM Booster Station, FCC Form 349.

Form Number(s): FCC Form 302-TV; FCC Form 302-DTV; FCC Form 340; FCC Form 349.

Type of Review: Extension of a currently approved collection.

Respondents: Business or other for-profit entities; not-for-profit institutions; State, local or tribal government.

Number of Respondents: 4,325.

Frequency of Response: On occasion reporting requirement; recordkeeping requirement; one time reporting requirement; third party disclosure requirement.

Estimated Time Per Response: 2 to 4 hours.

Total Annual Burden: 12,150 hours.

Total Annual Costs: $21,091,625.

Nature of Response: Required to obtain or retain benefits.

Confidentiality: No need for confidentiality required.

Privacy Impact Assessment: No impact(s).

Needs and Uses: Congress has mandated that after February 17, 2009, full-power television broadcast stations must transmit only in digital signals, and may no longer transmit analog signals. On December 22, 2007, the Commission adopted a Report and Order in the matter of the Third Periodic Review of the Commission's Rules and Policies Affecting the Conversion to Digital Television, MB Docket No. 07-91, FCC 07-228, to establish the rules, policies and procedures necessary to complete the nation's transition to DTV. With the DTV transition deadline less than 14 months away, the Commission must ensure that broadcasters meet their statutory responsibilities and complete construction of, and begin operations on, the facility on their final, post-transition (digital) channel that will reach viewers in their authorized service areas by the statutory transition deadline, when they must cease broadcasting in analog. The Commission wants to ensure that no consumers are left behind in the DTV transition. Specifically, the Report and Order requires Noncommercial Educational (“NCE”) television stations to use revised FCC Form 340 to obtain the necessary Commission approvals (i.e., construction permits and licenses) in time to build their post-transition facility.

• Applications for post-transition facilities. NCE television stations without a construction permit for their final, post-transition (DTV) facility must file an application to construct or modify that facility using FCC Forms 340.

• Requests to transition early to post-transition channel. NCE television stations may request authority to transition early to their post-transition channel using FCC Form 340.

• Revisions to FCC Form 340. FCC Form 340 was revised to accommodate the filing of post-transition applications.

In addition, the Report and Order requires that stations that have applied to construct or modify post-transition facilities must use the Form 302-DTV to obtain a new or modified station license to cover those post-transition facilities.

The FCC received approval under the “emergency processing provisions” of the PRA on January 7, 2008. The requirements for this collection have not changed since we received approval.

OMB Control Number: 3060-0433.

Title: Basic Signal Leakage Performance Report.

Form Number: FCC Form 320.

Type of Review: Extension of a currently approved collection.

Respondents: Business or other for-profit entities.

Number of Respondents: 7,100.

Frequency of Response: Recordkeeping requirement; annual reporting requirement.

Estimated Time per Hours: 17 hours.

Total Annual Burden: 120,700 hours.

Total Annual Cost: None.

Nature of Response: Required to obtain or retain benefits.

Confidentiality: No need for confidentiality required.

Privacy Impact Assessment(s): No impact(s).

Needs and Uses: Cable television system operators and Multichannel Video Programming Distributors (MPVDs) who use frequencies in the bands 108-137 and 225-400 MHz (aeronautical frequencies) are required to file a Cumulative Signal Leakage Index (CLI) derived under 47 CFR 76.611(a)(1) or the results of airspace measurements derived under 47 CFR 76.611(a)(2). This filing must include a description of the method by which compliance with basic signal leakage criteria is achieved and the method of calibrating the measurement equipment. This yearly filing of FCC Form 320 is done in accordance with 47 CFR 76.1803.

OMB Control Number: 3060-0980.

Title: SHVERA Procedural Rules; Implementation of the Satellite Home Viewer Extension and Reauthorization Act of 2004 (Broadcast Signal Carriage Issues, Retransmission Consent Issues).

Form Number: Not applicable.

Type of Review: Extension of a currently approved collection.

Respondents: Business and other for-profit entities.

Number of Respondents: 7,179.

Estimated Hours per Response: 1 to 5 hours.

Frequency of Response: On occasion reporting requirement.

Total Annual Burden: 10,196 hours.

Total Annual Cost: $30,000.

Nature of Response: Required to obtain or retain benefits.

Confidentiality: No need for confidentiality required.

Privacy Impact Assessment(s): No impact(s).

Needs and Uses: 47 CFR 76.66(c)(3) requires that a commercial television station notify a satellite carrier in writing whether it elects to be carried pursuant to retransmission consent or mandatory consent in accordance with the established election cycle.

47 CFR 76.66(c)(5) requires that a noncommercial television station must request carriage by notifying a satellite carrier in writing in accordance with the established election cycle.

47 CFR 76.66(c)(6) requires a commercial television broadcast station located in a local market in a noncontiguous state to make its retransmission consent-mandatory carriage election by October 1, 2005, for carriage of its signals that originate as analog signals for carriage commencing on December 8, 2005 and ending on December 31, 2008, and by April 1, 2007 for its signals that originate as digital signals for carriage commencing on June 8, 2007 and ending on December 31, 2008. For analog and digital signal carriage cycles commencing after December 31, 2008, such stations shall follow the election cycle in 47 CFR 76.66(c)(2) and 47 CFR 76.66(c)(4). A noncommercial television broadcast station located in a local market in Alaska or Hawaii must request carriage by October 1, 2005, for carriage of its signals that originate as an analog signal for carriage commencing on December 8, 2005 and ending on December 31, 2008, and by April 1, 2007 for its signals that originate as digital signals for carriage commencing on June 8, 2007 and ending on December 31, 2008. Moreover, section 76.66(c) requires a commercial television station located in a local market in a noncontiguous state to provide notification to a satellite carrier whether it elects to be carried pursuant to retransmission consent or mandatory consent.

47 CFR 76.66(d) states a television station's written notification must include its call sign, the name of a station contact, the station's community of license, the station's designated market area (DMA) assignment, and, for commercial stations, its election of mandatory carriage or retransmission consent. Within 30 days of receiving a request for carriage, a satellite carrier must notify in writing any station whether it will carry the station requested. If the satellite carrier will not carry the station, it must include its reasons for denying carriage.

47 CFR 76.66(d)(2) requires satellite carriers to issue notices to station licensees when the carrier is going to initiate new local service. These notifications are required to be sent by certified mail to the television station licensees.

47 CFR 76.66(d)(2)(iii) requires a satellite carrier with more than five million subscribers to provide a notice as required by 47 CFR 76.66(d)(2)(i) and 47 CFR 76.66(d)(2)(ii) to each television broadcast station located in a local market in a noncontiguous state, not later than September 1, 2005 with respect to analog signals and a notice not later than April 1, 2007 with respect to digital signals; provided, however, that the notice shall also describe the carriage requirements pursuant to section 338(a)(4) of title 47, United States Code, and 47 CFR 76.66(b)(2).

47 CFR 76.66(d)(5) applies to satellite carriers that carry or intend to carry significantly viewed signals and provide television stations with different carriage election options in counties and markets in which the satellite carrier is offering significantly viewed signals. Therefore, if satellite carriers elect to carry significantly viewed signals, they are required to provide notifications to local broadcast stations informing them of their rights to elect mandatory carriage or retransmit consent on a county basis.

47 CFR 76.66(m) states whenever a local broadcast station believes that a satellite carrier has failed to meet its obligations under this section, such station shall notify the carrier, in writing, of the alleged failure and identify its reason for believing that the satellite carrier failed to comply with its obligations.

The satellite carrier shall, within 30 days of such written notification, respond in writing to such notification and comply with such obligations or state its reasons for believing that it is in compliance. A local station that disputes a satellite carrier's response may obtain review of such response by filing a compliant with the Commission in accordance with 47 CFR 76.7 of the rules.

OMB Control Number: 3060-1105.

Title: Digital TV Transition Status Report.

Form Number: FCC Form 387.

Type of Review: Revision of a currently approved collection.

Respondents: Business or other for-profit entities; not-for-profit institutions.

Number of Respondents: 1,812.

Frequency of Response: On occasion reporting requirement.

Estimated Time per Response: 2 hours.

Total Annual Burden: 3,624 hours.

Total Annual Costs: $1,268,400.

Nature of Response: Required to obtain or retain benefits.

Confidentiality: No need for confidentiality required.

Privacy Impact Assessment: No impact(s).

Needs and Uses: Congress has mandated that after February 17, 2009, full-power television broadcast stations must transmit only in digital signals, and may no longer transmit analog signals. On December 22, 2007, the Commission adopted a Report and Order, In the Matter of the Third Periodic Review of the Commission's Rules and Policies Affecting the Conversion to Digital Television, MB Docket No. 07-91, FCC 07-228, to establish the rules, policies and procedures necessary to complete the nation's transition to Digital TV (DTV). With the DTV transition deadline less than 14 months away, the Commission must ensure that broadcasters meet their statutory responsibilities and complete construction of, and begin operations on, the facility on their final, post-transition (digital) channel that will reach viewers in their authorized service areas by the statutory transition deadline, when they must cease broadcasting in analog.

The Commission wants to ensure that no consumers are left behind in the DTV transition.

This Report and Order requires all full-power television stations to file a DTV Transition Status Report using FCC Form 387 on or before February 19, 2008. In addition, stations must update these forms as events warrant and, by October 20, 2008, if they have not by that date reported the completion of their transition, i.e., that they have begun operating their full facility as authorized by the post-transition DTV Table Appendix B. Stations must provide the specific details of their current transition status, any additional steps necessary for digital-only operation upon expiration of the February 17, 2009 transition deadline, and a timeline for making those steps.

Federal Communications Commission.
Marlene H. Dortch,
Secretary.

[FR Doc. E8-1978 Filed 2-1-08; 8:45 am]

BILLING CODE 6712-01-P